NUCLEAR REGULATORY COMMISSION

[Docket No. 99902117; NRC-2025-0079]

Long Mott Energy, LLC.; Long Mott Generating Station; Construction Permit Application

AGENCY: Nuclear Regulatory Commission.

ACTION: Notice; receipt.

SUMMARY: The U.S. Nuclear Regulatory Commission (NRC) is providing public notice each week for four consecutive weeks of receipt and availability of an application from Long Mott Energy, LLC. for a construction permit for a four-unit reactor facility. The application for the construction permit was received on March 31, 2025.

DATES: May 16, 2025.

ADDRESSES: Please refer to Docket ID NRC-2025-0079 when contacting the NRC about the availability of information for this action. You may obtain publicly available information related to this action by any of the following methods:

• Federal Rulemaking website: Go to https://www.regulations.gov and search for Docket ID NRC-2025-0079. Address questions about Docket IDs in Regulations.gov to Bridget Curran; telephone: 301-415-1003; email: Bridget.Curran@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Adrian Muñiz, Office of Nuclear Reactor Regulation, U.S. Nuclear Regulatory Commission, Washington, DC 20555-0001; telephone: 301-415-4093; email: Adrian.Muñiz@nrc.gov.

SUPPLEMENTARY INFORMATION: On March 31, 2025, Long Mott Energy, LLC., a wholly owned subsidiary of the Dow Chemical Company, filed an application for a construction permit for a four-unit power reactor facility to be located in Calhoun County, Texas, pursuant to section 103 of the Atomic Energy Act, as amended, and part 50 of title 10 of the Code of Federal Regulations (10 CFR), “Domestic Licensing of Production and Utilization Facilities.” The four-unit facility is to be identified as Long Mott Generating Station and would be based on the X-energy Xe-100, high-temperature gas-cooled reactor design. This would be the first application to include this design for NRC review.

The application is available in ADAMS under Package Accession No. ML25090A057. The information submitted by the applicant includes, among other things, the transmittal letter (ADAMS Accession No. ML25090A058), the preliminary safety analysis report (ADAMS Accession No. ML25090A061), the environmental report (ADAMS Accession No. ML25090A063), and certain financial qualification information (ADAMS Accession No. ML25090A059). These notices are being provided in accordance with the requirements in 10 CFR 50.43(a)(3).

The NRC staff is currently undertaking its acceptance review of the application. If the application is accepted for docketing, a subsequent Federal Register notice will be issued that addresses the acceptability of the construction permit application for docketing and provisions for participation of the public in the permitting process.

Dated: April 29, 2025.
For the Nuclear Regulatory Commission.
Adrian Muñiz Gonzalez,
Senior Project Manager, Advanced Reactor Licensing Branch 2, Division of Advanced Reactors and Non-Power Production and Utilization Facilities, Office of Nuclear Reactor Regulation.

[FR Doc. 2025-07729 Filed 5-15-25; 8:45 am]

BILLING CODE 7590-01-P